DEPARTMENT OF ENERGY

Federal Energy Regulatory Commission

[Docket No. EL21-92-000]

Carolinas Clean Energy Business Association v. PJM Interconnection, L.L.C. and Duke Energy Progress, LLC; Notice of Withdrawal

September 3, 2021.

On August 25, 2021, pursuant to Rule 216 of the Commission's Rules of Practice and Procedure,¹ the Carolinas Clean Energy Business Association (CCEBA) filed a motion to withdraw its complaint against PJM Interconnection, L.L.C. (PJM) and Duke Energy Progress, LLC (DEP), requesting expedited treatment of the motion to withdraw. On August 31, 2021, the Commission issued a notice shortening the comment period on the motion to withdraw to September 2, 2021.

¹ 18 CFR 385.216(b) (2020).

CCEBA states that PJM and DEP have committed to work with CCEBA to consider the issues raised in the complaint through settlement and to file any resulting amendments to PJM and DEP's joint operating agreement with the Commission under section 205 of the Federal Power Act no later than mid-December 2021.² CCEBA further states that such settlement will most expeditiously resolve the issues identified in the complaint, making withdrawal preferable. CCEBA asserts that its withdrawal is without prejudice to CCEBA's right to re-file the complaint. CCEBA also states that PJM and DEP have authorized CCEBA to state that they do not oppose withdrawal of the complaint.

² CCEBA Motion to Withdraw at 2.

Upon consideration, notice is hereby given that CCEBA's requested motion to withdraw is granted, effective as of the date of this notice.

Dated: September 3, 2021.
Kimberly D. Bose,
Secretary.

[FR Doc. 2021-19529 Filed 9-9-21; 8:45 am]

BILLING CODE 6717-01-P